DEPARTMENT OF LABOR

Employment and Training Administration

[TA-W-57,047]

Woodbridge Corporation a Division of Woodbridge Holdings, Inc., Brodhead, WI; Notice of Revised Determination on Reconsideration

By letter dated July 1, 2005, Unite Here, Local 1871 requested administrative reconsideration regarding the Department's Negative Determination Regarding Eligibility to Apply for Worker Adjustment Assistance, applicable to the workers of the subject firm.

The initial investigation resulted in a negative determination signed on June 6, 2005, was based on the finding that there were no company or customer imports of automotive foam seating and no shift of production to a foreign source occurred. The denial notice was published in the Federal Register on June 28, 2005 (70 FR 37116).

To support the request for reconsideration, the petitioner supplied additional information regarding subject firm's foreign facilities which manufacture like or directly competitive products with those produced at the subject firm. Upon further contact with the subject firm's company official, it was revealed that the subject firm significantly increased its import purchases of automotive foam seating during the relevant time period.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the additional facts obtained on reconsideration, I conclude that increased imports of articles like or directly competitive with those produced at Woodbridge Corporation, a division of Woodbridge Holdings, Inc., Brodhead, Wisconsin, contributed importantly to the declines in sales or production and to the total or partial separation of workers at the subject firm. In accordance with the provisions of the Act, I make the following certification:

All workers of Woodbridge Corporation, a division of Woodbridge Holdings, Inc., Brodhead, Wisconsin who became totally or partially separated from employment on or after April 21, 2004 through two years from the date of this certification, are eligible to apply for adjustment assistance under section 223 of the Trade Act of 1974, and are eligible to apply for alternative trade adjustment assistance under section 246 of the Trade Act of 1974.

Signed in Washington, DC this 5th day of August, 2005.
Linda G. Poole,
Certifying Officer, Division of Trade Adjustment Assistance.

[FR Doc. E5-4392 Filed 8-11-05; 8:45 am]

BILLING CODE 4510-30-P